DEPARTMENT OF ENERGY

Federal Energy Regulatory Commission

[Docket No. PF06-3-000]

Rockies Express Pipeline, LLC; Notice of Intent To Prepare an Environmental Impact Statement for the Proposed Rockies Express Pipeline Project, Request for Comments on Environmental Issues, and Notice of Public Scoping Meetings

January 6, 2006.

The staff of the Federal Energy Regulatory Commission (FERC or Commission) will prepare an environmental impact statement (EIS) that discusses the environmental impacts of the proposed Rockies Express Pipeline Project, Western Phase (the Project), which involves the construction and operation of facilities by Rockies Express Pipeline, LLC (Rockies Express) in Colorado, Wyoming, Nebraska, Kansas, and Missouri. These facilities would consist of 710 miles of 42-inch-diameter natural gas pipeline, 5 new compressor stations; and approximately 42 mainline valves and 12 interconnects. This EIS will be used by the Commission in its decision-making process to determine whether the Project is in the public convenience and necessity.

This notice explains the scoping process that will be used to gather input from the public and interested agencies on the Project. Your input will help us determine which issues/impacts need to be evaluated in the EIS. Please note that the scoping period for the Project will close on February 10, 2006.

Comments may be submitted in written form or verbally. In lieu of or in addition to sending written comments, you are invited to attend the public scoping meetings that have been scheduled in the Project area. Nine scoping meetings are scheduled for January 23 through 27, 2006 in various locations along the route. Further instructions on how to submit written comments and additional details of the public scoping meetings are provided in the public participation section of this notice.

The Rockies Express Project, Western Phase, is currently in the preliminary stages of design, and at this time a formal application has not been filed with the Commission. For this proposal, the Commission is initiating the National Environmental Policy Act (NEPA) review prior to receiving the application. This allows interested stakeholders to become involved early in project planning and to identify and resolve issues before an application is filed with the FERC. A docket number (PF06-3-000) has been established to locate in the public record information filed by Rockies Express and related documents issued by the Commission.¹ Once a formal application is filed with the FERC, a new docket number will be established.

¹ To view information in the docket, follow the instructions for using the eLibrary link at the end of this notice.

With this notice, we ² are asking other Federal, State, and local agencies with jurisdiction and/or special expertise with respect to environmental issues in the project area to formally cooperate with us in the preparation of the EIS. These agencies may choose to participate once they have evaluated the proposal relative to their responsibilities. Agencies that would like to request cooperating status should follow the instructions for filing comments described later in this notice. We encourage government representatives to notify their constituents of this planned project and encourage them to comment on their areas of concern.

² “We,” “us,” and “our” refer to the environmental staff of the Office of Energy Projects.

This notice is being sent to landowners within 0.5 mile of the proposed compressor stations; landowners along the pipeline route under consideration; Federal, State, and local government agencies; elected officials; environmental and public interest groups; Native American tribes; and local libraries and newspapers; and other interested parties.

Some affected landowners may be contacted by a Project representative about the acquisition of an easement to construct, operate, and maintain the proposed facilities. If so, Rockies Express and the affected landowners should seek to negotiate a mutually acceptable agreement. In the event that the Project is certificated by the Commission, that approval conveys the right of eminent domain for securing easements for the facilities. Therefore, if easement negotiations fail to produce an agreement, Rockies Express could initiate condemnation proceedings in accordance with State law.

A fact sheet prepared by the FERC entitled “An Interstate Natural Gas Facility On My Land? What Do I Need To Know?” addresses a number of typically asked questions, including the use of eminent domain and how to participate in the Commission's proceedings. It is available for viewing on the FERC Internet Web site (www.ferc.gov).

Summary of the Proposed Project

Rockies Express' long-term plan is to construct three separately certificated pipelines that together would result in the installation of approximately 1,323 miles of 42-inch-diameter, high pressure natural gas pipeline linking producing areas in the Rocky Mountain region to the upper Midwest and Eastern United States. This pipeline system would originate near the Cheyenne Hub, in Weld County, Colorado, and would terminate in Monroe County, Ohio. Rockies Express intends to pursue this system plan in three discrete phases (Western, Central, and Eastern). The FERC is now considering only the facilities included in the Western Phase. Rockies Express currently envisions that the Western Phase would include:

• Approximately 710 miles of 42-inch-diameter pipeline between the Cheyenne Hub in Weld County, Colorado and the Panhandle Eastern Pipeline system in Audrain County, Missouri;

• 5 new compressor stations with a total of 116,500 horsepower of compression;

• Approximately 42 mainline valves; and

• 12 interconnects.

A map depicting the general location of the Project facilities is shown in appendix 1.³

³ The appendices referenced in this notice are not being printed in the Federal Register. Copies are available from the Commission's Public Reference and Files Maintenance Branch, at (202) 502-8371. For instructions on connecting to eLibrary refer to the last page of this Notice.

Rockies Express is requesting approval such that the facilities are completed and placed into service by January 2008. Construction of the facilities would take about eight months.

Land Requirements for Construction

It is estimated that the construction of the Project facilities would disturb about 6,929 acres of land. Following construction, about 4,358 acres of the total would be retained for the operation of the pipeline and the above ground facilities (compressor/meter stations). The pipeline would be constructed on a 125-foot-wide right-of-way with occasional increases in width for additional workspace at waterbody, wetland, road, and railroad crossings. Extra workspaces may also be required in areas with site-specific constraints, such as side-slope construction. Other temporary land requirements would include land for pipe storage and equipment yards. Operation of the pipeline facilities would require a nominal 50-foot-wide permanent right-of-way.

The EIS Process

NEPA requires the Commission to take into account the environmental impacts that could result from an action whenever it considers the issuance of a Certificate of Public Convenience and Necessity under section 7 of the Natural Gas Act. NEPA also requires us to identify and address concerns the public would have about proposals. This process is referred to as “scoping.” The main goal of the scoping process is to focus the analysis in the EIS on important environmental issues and reasonable alternatives. By this Notice of Intent, the Commission staff requests agency and public comments on the scope of the issues to be addressed in the EIS. All comments received are considered during the preparation of the EIS.

We have already started to meet with Rockies Express, agencies, and other interested stakeholders to discuss the Project and identify issues/impacts and concerns. Between December 5 and 16, 2005, representatives of FERC staff participated in public open houses sponsored by Rockies Express in the Project area to explain the NEPA environmental review process to interested stakeholders and take comments about the Project.

Our independent analysis of the issues will be included in the draft EIS. The draft EIS will be published and mailed to Federal, State, and local agencies, Native American tribes, public interest groups, interested individuals, affected landowners, newspapers, libraries, and the Commission's official service list for this proceeding. A comment period will be allotted for review of the draft EIS. We will consider all timely comments on the draft EIS and revise the document, as necessary, before issuing a final EIS.

To ensure your comments are considered, please carefully follow the instructions in the public participation section beginning on page 6.

Currently Identified Environmental Issues

We have identified several issues that we think deserve attention based on a preliminary review of the proposed facilities and the information provided by Rockies Express. This preliminary list of issues may be changed based on your comments and our analysis.

• Geology and Soils:

—Impact on agricultural lands and irrigation systems.

—Impact on prime farmland soils.

—Blasting and disposal of excess rock.

—Erosion control.

—Evaluation of noxious weed control measures.

• Water Resources:

—Impact on groundwater and water supply wells.

—Impact of construction on wetlands.

—Assessment of the use and release of hydrostatic test water.

• Fish, Wildlife, and Vegetation:

—Development of revegetation plans.

• Endangered and Threatened Species:

—Potential effect on federally listed species.

• Cultural Resources:

—Impact on known and undiscovered cultural resources.

—Native American and tribal concerns.

• Land Use, Recreation and Special Interest Areas, and Visual Resources:

—Permanent land use alteration associated with pipeline easement.

—Impact on residences, including proximity of facilities to existing structures.

—Restrictions on future use of pipeline right-of-way.

• Socioeconomics:

—Benefits to local communities.

—Use of local labor, equipment, and supplies.

• Air Quality and Noise:

—Effects on local air quality and ambient noise from construction and operation of the proposed facilities.

• Reliability and Safety:

—Assessment of hazards associated with the transportation of natural gas.

—Assessment of security associated with operation of natural gas facilities.

• Alternatives:

—Evaluation of pipeline route alternatives.

—Identification of measures to lessen or avoid impacts on the various resource and special interest areas.

We will make recommendations on how to lessen or avoid impacts on the various resource areas and evaluate possible alternatives to the proposed Project or portions of the Project.

Public Participation

You are encouraged to become involved in this process and provide your specific comments or concerns about Rockies Express' proposal. Your comments should focus on the potential environmental effects, reasonable alternatives, and measures to avoid or lessen environmental impacts. The more specific your comments, the more useful they will be. To expedite the receipt and consideration of your comments, electronic submission of comments is strongly encouraged. See Title 18 CFR 385.2001(a)(1)(iii) and the instructions on the FERC Internet Web site (http://www.ferc.gov) under the eFiling link and the link to the User's Guide. Before you can submit comments you will need to create a free account by clicking on “Sign-up” under “New User.” You will be asked to select the type of submission you are making. This type of submission is considered a “Comment on Filing.” Comments submitted electronically must be submitted by February 10, 2006.

If you wish to mail comments, please mail your comments so that they will be received in Washington, DC on or before February 10, 2006 and carefully follow these instructions:

• Send an original and two copies of your letter to: Magalie R. Salas, Secretary, Federal Energy Regulatory Commission, 888 First St., NE., Room 1A, Washington, DC 20426.

• Label one copy of the comments for the attention of Gas Branch 1.

• Reference Docket No. PF06-3-000 on the original and both copies.

• Mail your comments so that they will be received in Washington, DC on or before February 10, 2006.

In addition to or in lieu of sending written comments, we invite you to attend the public scoping meetings we will conduct in the Project area. The locations for these meetings are listed below. All meetings are scheduled to run from 7 p.m. to 9 p.m.

January 23, 2006 | Greeley, Colorado, Best Western Inn, 701 8th Street, Greeley, Colorado, 970-353-8444 |
January 24, 2006 | Sidney, Nebraska, Holiday Inn, 664 Chase Blvd., Sidney, Nebraska, 308-254-2000 | St Joseph, Missouri, Stoney Creek Inn, 1201 N. Woodbine, St. Joseph, Missouri, 800-659-2220.
January 25, 2006 | North Platte, Nebraska, Quality Inn Sandhills Convention Center, 2102 South Jeffers, North Platte, Nebraska, 308-532-9090 | Beatrice, Nebraska, Holiday Inn Express, 4005 N. 6th Street, Beatrice, Nebraska, 402-228-7000.
January 26, 2006 | Kearney, Nebraska, Holiday Inn Kearney, 110 Second Avenue, Kearney, Nebraska, 308-234-2212 | Moberly, Missouri, Best Western Inn, 1200 Hwy 24 East, Moberly, Missouri, 660-263-6540.
January 27, 2006 | Hastings, Nebraska, Hastings Convention Center, Holiday Inn Garden Center, 2201 Osborne Drive, Hastings, Nebraska, 402-463-4661 | Chillicothe, Missouri, Grand River Inn, 606 W. Bus. Hwy 36, Chillicothe, Missouri, 888-317-8290.

The public scoping meetings are designed to provide State and local agencies, interested groups, affected landowners, and the general public with another opportunity to offer your comments on the Project. Interested groups and individuals are encouraged to attend the meetings and to present comments on the environmental issues they believe should be addressed in the EIS. A transcript of each meeting will be made so that your comments will be accurately recorded.

All public meetings will be posted on the Commission's calendar located at http://www.ferc.gov/EventCalendar/EventsList.aspx along with other related information.

Environmental Mailing List

If you received this notice, you are on the environmental mailing list for this Project and will continue to receive Project updates including the draft and final EISs. If you want your contact information corrected or you do not want to remain on our mailing list, please return the Correct or Remove From Mailing List Form included as Appendix 2.

To reduce printing and mailing costs, the draft and final EISs will be issued in both CD-ROM and hard copy formats. The FERC strongly encourages the use of the CD-ROM format in its publication of large documents. If you wish to receive a paper copy of the draft EIS instead of a CD-ROM, you must indicate that choice on the return postcard (Appendix 2).

Additional Information

Additional information about the Project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Affected landowners and parties with environmental concerns may be granted intervenor status upon showing good cause by stating that they have a clear and direct interest in this proceeding which would not be adequately represented by any other parties. You do not need intervenor status to have your environmental comments considered.

Magalie R. Salas,
Secretary.

[FR Doc. E6-287 Filed 1-12-06; 8:45 am]

BILLING CODE 6717-01-P